DEPARTMENT OF ENERGY

Federal Energy Regulatory Commission

[Project No. 2550-030]

Wiscons8, LLC; Notice of Application Ready For Environmental Analysis and Soliciting Comments, Recommendations, Terms and Conditions, and Prescriptions

a. Type of Application: Subsequent License.

b. Project No.: 2550-030.

c. Date Filed: November 29, 2024.

d. Applicant: Wiscons8, LLC.

e. Name of Project: Weyauwega Hydroelectric Project.

f. Location: On the Waupaca River in the City of Weyauwega in Waupaca County, Wisconsin.

g. Filed Pursuant to: Federal Power Act, 16 U.S.C. 791(a)-825(r).

h. Applicant Contact: Mr. Dwight Shanak, Manager, Wiscons8, LLC, N3311 Sunrise Lane, Waupaca, WI 54981; telephone at (715) 412-3150; email at modernhydro@sbcglobal.net.

i. FERC Contact: Arash Barsari, Project Coordinator, Great Lakes Branch, Division of Hydropower Licensing; telephone at (202) 502-6207; email at Arash.JalaliBarsari@ferc.gov.

j. Deadline for filing comments, recommendations, terms and conditions, and prescriptions: on or before 5:00 p.m. Eastern Time on March 16, 2026; reply comments are due on or before 5:00 p.m. Eastern Time on April 30, 2026. The Commission strongly encourages electronic filing. Please file comments, recommendations, terms and conditions, and prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie Anne A. Reese, Secretary, Federal Energy Regulatory Commission, 12225 Wilkins Avenue, Rockville, Maryland 20852. All filings must clearly identify the project name and docket number on the first page: Weyauwega Hydroelectric Project (P-2550-030).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis at this time.

l. Project Description: The existing project consists of a dam that includes three 12-foot-long Tainter gates with a crest elevation of 770.8 National Geodetic Vertical Datum of 1929 (NGVD 29); and a powerhouse that includes an intake structure with a trashrack with 2-inch clear bar spacing and a 210-kilowatt vertical Francis turbine-generator unit. The dam creates an impoundment that has a surface area of 235 acres at a normal surface elevation of 770.2 feet NGVD 29. From the impoundment, water flows through the powerhouse to a tailrace that empties into the Waupaca River.

Electricity generated at the powerhouse is transmitted to the electric grid via 4.16-kilovolt generator lead lines, a step-up transformer, and a 25-foot-long transmission line.

Project recreation facilities include: (1) a boat ramp that provides impoundment access; (2) an approximately 270-foot-long access road for the boat ramp; (3) a 100-foot-long portage trail; and (4) a hand-carry boat put-in site downstream of the dam.

Wiscons8 proposes to continue operating the project in a run-of-river mode and maintaining the impoundment elevation at 770.2 ± 0.25 feet NGVD 29. Wiscons8 also proposes to continue maintaining the portage trail and put-in site. The put-in site also includes a dock that Wiscons8 proposes to maintain for public tailrace fishing. Wiscons8 is not proposing to maintain the boat ramp or 270-foot-long access road as project facilities.

m. A copy of the application can be viewed on the Commission's website at http://www.ferc.gov using the “eLibrary” link. Enter the docket number excluding the last three digits in the docket number field to access the document (P-2550). For assistance, contact FERC Online Support.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

You may also register online at https://ferconline.ferc.gov/FERCOnline.aspx to be notified via email of new filings and issuances related to this or other pending projects. For assistance, contact FERC Online Support.

n. The license applicant must file on or before 5:00 p.m. Eastern Time on March 16, 2026: (1) a copy of the water quality certification; (2) a copy of the request for certification, including proof of the date on which the certifying agency received the request; or (3) evidence of waiver of water quality certification.

o. Procedural schedule: The application will be processed according to the following schedule. Revisions to the schedule will be made as appropriate.

Milestone | Target date
Filing of Comments, Recommendations, Terms, Conditions, and Prescriptions | March 2026.
Filing of Reply Comments | April 2026.

p. Final amendments to the application must be filed with the Commission on or before 5:00 p.m. Eastern Time on February 16, 2026.

(Authority: 18 CFR 2.1)

Dated: January 15, 2026.
Debbie-Anne A. Reese,
Secretary.

[FR Doc. 2026-01078 Filed 1-20-26; 8:45 am]

BILLING CODE 6717-01-P